DEPARTMENT OF JUSTICE

Bureau of Alcohol, Tobacco, Firearms and Explosives

[OMB Number 1140—NEW]

Agency Information Collection Activities: Proposed Collection; Comments Requested: Firearms & Explosives Services Division Customer Service Survey

ACTION: 30-Day notice of information collection.

The Department of Justice (DOJ), Bureau of Alcohol, Tobacco, Firearms and Explosives (ATF) will be submitting the following information collection request to the Office of Management and Budget (OMB) for review and approval in accordance with the Paperwork Reduction Act of 1995. The proposed information collection is published to obtain comments from the public and affected agencies. This proposed information collection was previously published in the Federal Register Volume 77, Number 6, page 1510 on January 10, 2012 allowing for a 60 day comment period.

The purpose of this notice is to allow for an additional 30 days for public comment until April 16, 2012. This process is conducted in accordance with 5 CFR 1320.10.

Written comments concerning this information collection should be sent to the Office of Information and Regulatory Affairs, Office of Management and Budget, Attn: DOJ Desk Officer. The best way to ensure your comments are received is to email them to oira_submission@omb.eop.gov or fax them to 202-395-7285. All comments should reference the eight digit OMB number for the collection or the title of the collection. If you have questions concerning the collection, please contact Thomas DiDomenico at fesdsurvey@atf.gov or the DOJ Desk Officer at 202-514-4304.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Collection

(1) Type of Information Collection: New.

(2) Title of the Form/Collection: Firearms & Explosives Services Division Customer Service Survey.

(3) Agency form number, if any, and the applicable component of the Department of Justice sponsoring the collection: Form Number: None. Bureau of Alcohol, Tobacco, Firearms and Explosives.

(4) Affected public who will be asked or required to respond, as well as a brief abstract: Primary: Business or other for-profit. Other: None.

Need for Collection

The Firearms & Explosives Services Division (FESD) provides dealer licensing and other services related to the importation and transfers of weapons within the firearms and explosives industry. This anonymous survey would allow FESD to gauge customer satisfaction and correct potential deficiencies. Internal audits have demonstrated the need for a division level survey to enhance greater customer satisfaction.

(5) An estimate of the total number of respondents and the amount of time estimated for an average respondent to respond: The number of respondents cannot be determined because a survey has not been done before. It is estimated that respondents will take five minutes to complete the online survey.

(6) An estimate of the total public burden (in hours) associated with the collection:

The total public burden cannot be estimated as the survey is voluntary and the number of respondents cannot be determined.

If additional information is required contact: Jerri Murray, Department Clearance Officer, Policy and Planning Staff, Justice Management Division, Department of Justice, Two Constitution Square, Room 2E-502, 145 Street NE., Washington, DC 20530.

Jerri Murray,
Department Clearance Officer, PRA, United States Department of Justice.

[FR Doc. 2012-6263 Filed 3-14-12; 8:45 am]

BILLING CODE 4410-FY-P